DEPARTMENT OF THE INTERIOR

Bureau of Land Management

[LLCO956000 L14200000.BJ0000]

Notice of Filing of Plats of Survey; Colorado.

AGENCY: Bureau of Land Management, Interior.

ACTION: Notice of Filing of Plats of Survey; Colorado

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on August 16, 2013.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The plat, in 3 sheets, and field notes of the dependent resurvey, survey, and supplemental plat in Township 34 North, Range 8 West, North of the Ute Line, New Mexico Principal Meridian, Colorado, were accepted June 20, 2013.

The plat and field notes of the dependent resurvey and metes-and-bounds surveys in unsurveyed Township 3 North, Range 79 West, Sixth Principal Meridian, Colorado, were accepted on June 26, 2013.

Randy Bloom,
Chief Cadastral Surveyor for Colorado.

[FR Doc. 2013-17141 Filed 7-16-13; 8:45 am]

BILLING CODE 4310-JB-P